DEPARTMENT OF THE INTERIOR

Bureau of Reclamation

[FES-07-37]

Colorado River Interim Guidelines for Lower Basin Shortages and Coordinated Operations for Lake Powell and Lake Mead

AGENCY: Bureau of Reclamation, Interior.

ACTION: Notice of Availability of a Final Environmental Impact Statement for the Colorado River Interim Guidelines for Lower Basin Shortages and Coordinated Operations for Lake Powell and Lake Mead.

SUMMARY: The Department of the Interior (Department), acting through the Bureau of Reclamation (Reclamation), has issued a final environmental impact statement (Final EIS) on the proposed adoption of specific Colorado River Lower Basin shortage guidelines and coordinated reservoir management strategies to address operation of Lake Powell and Lake Mead, particularly under low reservoir conditions. This action is proposed in order to provide a greater degree of certainty to U.S. Colorado River water users and managers of the Colorado River Basin by providing detailed and objective guidelines for the operation of Lake Powell and Lake Mead, thereby allowing water managers and water users in the Lower Basin to know when, and by how much, water deliveries will be reduced in drought and other low reservoir conditions. The Department proposes that these guidelines be interim in duration and extend through 2026.

Cooperating agencies are the Bureau of Indian Affairs, the U.S. Fish and Wildlife Service, the National Park Service, the Western Area Power Administration, and the United States Section of the International Boundary and Water Commission.

DATES: The Department will issue a Record of Decision on implementing the proposed interim guidelines no sooner than December 3, 2007.

ADDRESSES: The Final EIS is electronically available for viewing and copying at Reclamation's project Web site at: http://www.usbr.gov/lc/region/programs/strategies.html. Alternatively, a compact disc or hard copy is available upon written request to: Regional Director, Lower Colorado Region, Bureau of Reclamation, Attention: BCOO-1005, P.O. Box 61470, Boulder City, Nevada 89006-1470; fax at (702) 293-8156; or e-mail at strategies@lc.usbr.gov.

See the SUPPLEMENTARY INFORMATION section of this notice for locations and addresses where copies of the document may be viewed.

FOR FURTHER INFORMATION CONTACT: Terrance J. Fulp, Ph.D., at (702) 293-8500 or e-mail at strategies@lc.usbr.gov; and/or Randall Peterson at (801) 524-3633 or e-mail at strategies@lc.usbr.gov.

SUPPLEMENTARY INFORMATION: During the period from 2000-2007, the Colorado River has experienced the worst drought conditions in 100 years of recorded history. During this period, storage in Colorado River reservoirs dropped from nearly full to less than 55 percent of capacity as of September 30, 2007. Currently, the Department does not have specific operational guidelines in place to address the operation of Lake Powell and Lake Mead during drought and low reservoir conditions.

Accordingly, through a National Environmental Policy Act (NEPA) process initiated by a Federal Register notice dated September 30, 2005 (70 FR 57322), the Department proposed the adoption of specific interim guidelines for Lower Basin shortages and coordinated operations of Lake Powell and Lake Mead. It is anticipated that the proposed federal action will be implemented through the adoption of interim guidelines in effect through 2026 that would be used each year by the Department in implementing the Criteria for Coordinated Long-Range Operation of Colorado River Reservoirs Pursuant to the Colorado River Basin Project Act of September 30, 1968, through issuance of the Annual Operating Plan for Colorado River Reservoirs.

The proposed federal action considers four operational elements that collectively are designed to address the purpose and need for the proposed federal action. These elements are addressed in each of the alternatives described and analyzed in the Final EIS. The interim guidelines would be used by the Secretary of the Interior (Secretary) to:

• Determine those circumstances under which the Secretary would reduce the annual amount of water available for consumptive use from Lake Mead to the Colorado River Lower Division states (Arizona, California, and Nevada) below 7.5 million acre-feet (a “Shortage”) pursuant to Article II(B)(3) of the United States Supreme Court Decree in the case of Arizona v. California, 547 U.S. 150 (2006);

• Define the coordinated operation of Lake Powell and Lake Mead to provide improved operation of these two reservoirs, particularly under low reservoir conditions;

• Allow for the storage and delivery, pursuant to applicable federal law, of conserved Colorado River system and non-system water in Lake Mead to increase the flexibility of meeting water use needs from Lake Mead, particularly under drought and low reservoir conditions; and

• Determine those conditions under which the Secretary may declare the availability of surplus water for use within the Lower Division states.

The proposed federal action would modify the substance of the existing Interim Surplus Guidelines (ISG), published in the Federal Register on January 25, 2001 (66 FR 7772), and would change the term of the ISG from 2016 to 2026.

The purpose of the proposed federal action is to: (1) Improve Reclamation's management of the Colorado River by considering the trade-offs between the frequency and magnitude of reductions of water deliveries, and considering the effects on water storage in Lake Powell and Lake Mead, water supply, power production, recreation, and other environmental resources; (2) provide mainstream U.S. users of Colorado River water, particularly those in the Lower Division states, a greater degree of predictability with respect to the amount of annual water deliveries in future years, particularly under drought and low reservoir conditions; and (3) provide additional mechanisms for the storage and delivery of water supplies in Lake Mead.

The Final EIS presents five action alternatives for potential implementation, plus a No Action Alternative. The action alternatives reflect input from Reclamation staff, the cooperating agencies, stakeholders, members of the general public and other interested parties. The preferred alternative was identified by Reclamation by publication on June 15, 2007, on the dedicated project Web site: (http://www.usbr.gov/lc/region/programs/strategies.html), following public comments on the Draft EIS and further analysis.

The preferred alternative proposes: (1) Discrete levels of shortage volumes associated with Lake Mead elevations to conserve reservoir storage and provide water users and managers in the Lower Basin with greater certainty to know when, and by how much, water deliveries will be reduced in drought and other low reservoir conditions; (2) a coordinated operation of Lake Powell and Lake Mead determined by specified reservoir conditions that would minimize shortages in the Lower Basin and avoid the risk of curtailments in the Upper Basin; (3) a mechanism to encourage and account for augmentation and conservation of water supplies, referred to as Intentionally Created Surplus, that would minimize the likelihood and severity of potential future shortages; and (4) the modification and extension of the ISG through 2026.

A Record of Decision implementing the interim guidelines is anticipated to be completed before the end of 2007.

Following publication of this Federal Register notice, additional and updated information regarding the content and development of guidelines is anticipated to be provided to the public through the dedicated project Web site, (http://www.usbr.gov/lc/region/programs/strategies.html).

Locations Where the Final EIS Is Available for Public Review

• Bureau of Reclamation, Lower Colorado Regional Office, 400 Railroad Avenue, Boulder City, Nevada.

• Bureau of Reclamation, Upper Colorado Regional Office, 125 South State Street, Room 7220, Salt Lake City, Utah.

• Bureau of Reclamation, Phoenix Area Office, 6150 West Thunderbird Road, Glendale, Arizona.

• Bureau of Reclamation, Yuma Area Office, 7301 Calle Agua Salada, Yuma, Arizona.

• Bureau of Reclamation Library, Denver Federal Center, 6th Avenue and Kipling, Building 67, Room 167, Denver, Colorado.

• Department of the Interior, Natural Resources Library, 1849 C Street, NW., Washington, DC.

• Yuma County Library, 185 South Main Street, Yuma, Arizona.

• Palo Verde Valley Library, 125 West Chanslor Way, Blythe, California.

• Mohave County Library, 1170 Hancock Road, Bullhead City, Arizona.

• Laughlin Library, 2840 South Needles Highway, Laughlin, Nevada.

• Las Vegas Clark County Library, 833 Las Vegas Boulevard N, Las Vegas, Nevada.

• James I. Gibson Library, 280 Water Street, Henderson, Nevada.

Public Disclosure

Before including your name, address, phone number, e-mail address, or other personal identifying information in your comment, you should be aware that your entire comment—including your personal identifying information—may be made publicly available at any time. While you can ask us in your comment to withhold your personal identifying information from public review, we cannot guarantee that we will be able to do so.

Willie R. Taylor,
Director, Office of Environmental Policy and Compliance.

[FR Doc. E7-21417 Filed 11-1-07; 8:45 am]

BILLING CODE 4310-MN-P